OCCUPATIONAL SAFETY AND HEALTH REVIEW COMMISSION

29 CFR Part 2200

Rules of Procedure

AGENCY: Occupational Safety and Health Review Commission.

ACTION: Technical amendments.

SUMMARY: This document makes technical amendments to the final rule published by the Occupational Safety and Health Review Commission in the Federal Register on April 10, 2019, and corrected on August 30, 2019, and on October 4, 2019. That rule revised the procedural rules governing practice before the Occupational Safety and Health Review Commission.

DATES: Effective on October 15, 2020.

FOR FURTHER INFORMATION CONTACT: Ron Bailey, Attorney-Advisor, Office of the General Counsel, by telephone at (202) 606-5410, by email at rbailey@oshrc.gov, or by mail at: 1120 20th Street NW, Ninth Floor, Washington, DC 20036-3457.

SUPPLEMENTARY INFORMATION: OSHRC published revisions to its rules of procedure in the Federal Register on April 10, 2019 (84 FR 14554), and published corrections on August 30, 2019 (84 FR 45654), and October 4, 2019 (84 FR 53052). This document makes further technical amendments to the final rule.

List of Subjects in 29 CFR Part 2200

Administrative practice and procedure, Hearing and appeal procedures.

Accordingly, 29 CFR part 2200 is amended by making the following technical amendments:

PART 2200—RULES OF PROCEDURE

1. The authority citation for part 2200 continues to read as follows:

Authority: 29 U.S.C. 661(g), unless otherwise noted.

Section 2200.96 is also issued under 28 U.S.C. 2112(a).

2. Amend § 2200.7 by adding paragraph (c)(5) and revising paragraphs (o)(1) and (2) to read as follows:

§ 2200.7 Service, notice, and posting.

* * * * *

(c) * * *

(5) Non-E-Filed Documents. Documents required to be served upon other counsel or parties but that are not filed with the Commission in the Commission's E-File System (such as discovery documents served pursuant to § 2200.52(j)) may be served by any means agreed to by all parties in writing.

* * * * *

(o) * * *

(1) Service on parties and intervenors using Commission's E-File System. Service of show cause orders shall be deemed completed by service through the Commission's E-File System on a representative who has entered an appearance for a party or intervenor under § 2200.23 or on a self-represented party or intervenor who has not been exempted from using the Commission's E-File System. See also § 2200.101(a).

(2) Service on self-represented parties or intervenors exempted from using the Commission's E-File System. In addition to the service methods permitted by § 2200.7(c), the Commission or the Judge shall serve a show cause order on a self-represented party or intervenor who has been exempted from using the Commission's E-File System by certified mail or by any other method (including commercial delivery service) that provides confirmation of delivery to the addressee's record address provided under § 2200.6.

3. Amend § 2200.8 by revising paragraphs (c)(1) and (2) to read as follows:

§ 2200.8 Filing.

* * * * *

(c) * * *

(1) Mandatory e-filing. All parties and intervenors must file documents electronically in the Commission's E-File System by following the instructions on the Commission's website (www.oshrc.gov), unless a self-represented party or intervenor is able to claim that complying with this paragraph will place an undue burden upon that party or intervenor under paragraph (c)(2) of this section or the documents are exempt from e-filing under paragraph (c)(5) of this section. Documents may not be filed with the Commission or the Judge via email.

(2) Undue burden. Self-represented parties or intervenors may submit a written statement to the Judge requesting an exemption from the mandatory e-filing requirement on the grounds that it would place an undue burden on them to comply with the requirement. If the Judge grants an exemption, exempted self-represented parties or intervenors must file documents by postage-prepaid first class or higher class U.S. Mail, commercial delivery service, personal delivery, or facsimile transmission as described in paragraph (d) of this section.

* * * * *

4. Amend § 2200.100 by revising the third sentence of paragraph (c) to read as follows:

§ 2200.100 Settlement.

* * * * *

(c) * * * The parties shall also file a draft order terminating the proceedings for adoption by the Judge or, if the Judge's report has been issued, by the Commission. * * *

James J. Sullivan, Jr.,
Chairman.

[FR Doc. 2020-21012 Filed 10-14-20; 8:45 am]

BILLING CODE 7600-01-P